ENVIRONMENTAL PROTECTION AGENCY

[EPA-HQ-OECA-2013-0547; FRL—10006-22-OMS]

Information Collection Request Submitted to OMB for Review and Approval; Comment Request; Performance Evaluation Studies on Wastewater Laboratories (Renewal)

AGENCY: Environmental Protection Agency (EPA).

ACTION: Notice.

SUMMARY: The Environmental Protection Agency (EPA) has submitted an information collection request (ICR), Performance Evaluation Studies on Wastewater Laboratories (EPA ICR Number 0234.13, OMB Control Number 2080-0021) to the Office of Management and Budget (OMB) for review and approval in accordance with the Paperwork Reduction Act. This is a proposed extension of the ICR, which is currently approved through May 31, 2020. Public comments were previously requested via the Federal Register on October 9, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 30, 2020.

ADDRESSES: Submit your comments, referencing Docket ID Number EPA-HQ-OECA-2013-0547, to (1) EPA online using www.regulations.gov (our preferred method), by email to docket.oeca@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Gregory Savitske, Monitoring, Assistance, and Media Programs Division, Office of Compliance, Mail Code 2227A, Environmental Protection Agency, 1200 Pennsylvania Ave. NW, Washington, DC 20460; telephone number: (202) 564-2601; fax number: (202) 564-0050; email address: savitske.gregory@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Discharge Monitoring Report-Quality Assurance (DMR-QA) study program participation is mandatory for major and selected minor National Pollutant Discharge Elimination System (NPDES) permit holders in accordance with Clean Water Act Section 308. The DMR-QA study program is designed to evaluate the analytic ability of laboratories that perform chemical, microbiological and whole effluent toxicity (WET) analyses required in NPDES permits for reporting results in the Discharge Monitoring Reports (DMR). Under DMR-QA, the permit holder is responsible for having their in-house and/or contract laboratories analyze performance evaluation samples and submit results to proficiency testing (PT) providers for grading. Graded results are transmitted by either the permit holder or PT provider to the appropriate federal or state NPDES permitting authority. Permit holders are responsible for submitting corrective action reports to the appropriate permitting authority.

Form Numbers: EPA Form 6400-01.

Respondents/affected entities: Major and selected minor permit holders under the Clean Water Act's National Pollutant Discharge Elimination System (NPDES).

Respondent's obligation to respond: Mandatory under Clean Water Act Section 308(a).

Estimated number of respondents: 5,500 (total).

Frequency of response: Annually, On occasion.

Total estimated burden: 36,300 hours (per year) hours (per year). Burden is defined at 5 CFR 1320.03(b)

Total estimated cost: $5,368,055 (per year), includes $3,375,790 annualized capital or operation & maintenance costs.

Changes in the Estimates: There is a decrease of 1,320 hours in the total estimated respondent burden compared with the ICR currently approved by OMB. This decrease is due to a slight decrease of NPDES major permit holders over the last three years. Non-labor costs for obtaining performance evaluation samples increased.

Courtney Kerwin,
Director, Regulatory Support Division.

[FR Doc. 2020-06590 Filed 3-30-20; 8:45 am]

BILLING CODE 6560-50-P